NATIONAL AERONAUTICS AND SPACE ADMINISTRATION

[Notice 00-085]

Agency Information Collection: Submission for OMB Review, Comment Request

AGENCY: National Aeronautics and Space Administration (NASA).

SUMMARY: The National Aeronautics and Space Administration has submitted to the Office of Management and Budget (OMB) the following proposal for the collection of information under the provisions of the Paperwork Reduction Act (44 U.S.C. Chapter 35).

DATES: Comments on this proposal should be received on or before August 31, 2000.

ADDRESSES: All comments should be addressed to Mr. Richard Kall, Code HK, National Aeronautics and Space Administration, Washington, DC 20546-0001.

FOR FURTHER INFORMATION CONTACT: Ms. Carmela Simonson, Office of the Chief Information Officer, (202) 358-1223.

Reports: none.

Title: Patents.

OMB Number: 2700-0048.

Type of Review: Extension.

Need and Uses: The information is needed to ensure the proper disposition of rights to inventions made in the course of NASA funded research.

Affected Public: Businesses or other for-profit, Not-for-profit institutions, State, Local or Tribal Government.

Estimated Number of Respondents: 9,347.

Responses Per Respondent: 1.

Estimated Annual Responses: 9,347.

Estimated Hours Per Request: 30 min to 8 hrs.

Estimated Annual Burden Hours: 17,276.

Frequency of Report: Annually.

David B. Nelson,
Deputy Chief Information Officer, Office of the Administrator.

[FR Doc. 00-19330 Filed 7-31-00; 8:45 am]

BILLING CODE 7510-01-P